DEPARTMENT OF COMMERCE

National Oceanic and Atmospheric Administration

50 CFR Part 648

[Docket No. 250424-0072]

RIN 0648-BN64

Magnuson-Stevens Fishery Conservation and Management Act Provisions; Fisheries of the Northeastern United States; Northeast Multispecies Fishery; Fishing Year 2025 Measures; Correction

AGENCY: National Marine Fisheries Service (NMFS), National Oceanic and Atmospheric Administration (NOAA), Commerce.

ACTION: Temporary rule; correction.

SUMMARY: This document contains a correction to the preamble to a temporary rule for emergency measures under the authority of the Magnuson-Stevens Fishery Conservation and Management Act (Magnuson-Stevens Act) for the Northeast Multispecies Fishery Management Plan (FMP), which published on May 2, 2025. Specifically, NMFS is correcting two items in the preamble of the temporary rule: The possession limit for Gulf of Maine cod in table 13 of the temporary rule; and the value for the fishing year 2025 U.S. acceptable biological catch (ABC) for Georges Bank haddock that was projected in Framework Adjustment 66.

DATES: Effective May 1, 2025, through October 28, 2025.

FOR FURTHER INFORMATION CONTACT: Mark Grant, Fishery Policy Analyst, phone: 978-281-9145; email: Mark.Grant@noaa.gov.

SUPPLEMENTARY INFORMATION: On May 2, 2025, NMFS published a temporary rule (90 FR 18804) implementing emergency measures to revise portions of the fishing year 2025 provisions in the Northeast Multispecies FMP to put in place necessary specifications and other measures at the beginning of fishing year 2025. The temporary rule is intended to mitigate economic harm to the Northeast multispecies fishery participants by establishing fish stock quotas and related measures that allow the fishery to operate while preventing overfishing. Comments on the temporary rule must be received by June 2, 2025. The temporary rule establishes annual catch limits and total allowable catches, and approves Northeast multispecies sector operations plans and sector allocations that allow the fishery to operate during the 2025 fishing year that began on May 1, 2025. The temporary rule contained two errors in the preamble: The value for the fishing year 2025 U.S. acceptable biological catch (ABC) for Georges Bank haddock that was projected in Framework Adjustment 66 (89 FR 35755, May 2, 2024); and the possession limit for Gulf of Maine cod in table 13.

The temporary rule incorrectly listed the fishing year 2024 U.S. ABC amount of 7,058 mt as the projected Georges Bank haddock U.S. ABC for fishing year 2025 published in Framework Adjustment 66. The correct projected Georges Bank haddock U.S. ABC for fishing year 2025 in Framework Adjustment 66 was 5,382 mt. The new 2025 U.S. ABC recommended by the New England Fishery Management Council in Framework Adjustment 69 (1,556 mt) is 71 percent lower than the U.S. ABC previously projected for 2025 (1,556 mt vs. 5,382 mt). The U.S. ABC for 2025 projected in Framework Adjustment 66 (5,382 mt) is 33 percent less than the overfishing limit (8,034 mt) identified in the 2024 assessment. The Canadian share of the 2025 total ABC is 5,854 mt, based on the U.S./Canada process described in the temporary rule. Therefore, in combination with projected Canadian catch, maintaining the U.S. ABC projected by Framework Adjustment 66 for fishing year 2025 could allow overfishing and the temporary rule correctly set a lower U.S. ABC for fishing year 2025.

Table 13 in the temporary rule incorrectly listed the daily and trip possession limit of Gulf of Maine cod as 0 lb (0 kg) and stated that possession of Gulf of Maine cod is prohibited for commercial vessels fishing in the common pool in FISHING YEAR 2025. This was a typographical error. The preamble explained, and table 13 correctly indicated, that possession of Georges Bank cod is prohibited. Possession of Gulf of Maine cod is allowed under the temporary rule. Limited access day-at-sea (DAS) vessels may possess up to 25 lb (11 kg) per DAS, and up to 50 lb (23 kg) per trip. All other commercial vessels fishing in the common pool may possess up to 25 lb (11 kg) per trip.

This document changes the value of the fishing year 2025 U.S. ABC for Georges Bank haddock to the amount that was projected in Framework Adjustment 66 and adjusts the Gulf of Maine cod possession limit in table 13 to the correct amounts.

Correction

In FR Rule Doc. 2025-07635, appearing on page 18804 in the Federal Register of Friday, May 2, 2025, the following corrections to the preamble are made:

1. On page 18807, in the second column, the current second paragraph under table 1 states, “However, a new stock assessment completed in 2024 resulted in the Council recommending a new 2025 U.S. ABC in Framework Adjustment 69 that is 78 percent lower than the U.S. ABC previously projected for 2025 (1,556 mt vs. 7,058 mt). The U.S. ABC for 2025 projected in Framework Adjustment 66 (7,058 mt) is only 12 percent less than the overfishing limit (8,034 mt) identified in the 2024 assessment.” This is corrected to read “However, a new stock assessment completed in 2024 resulted in the Council recommending a new 2025 U.S. ABC in Framework Adjustment 69 that is 71 percent lower than the U.S. ABC previously projected for 2025 (1,556 mt vs. 5,382 mt). The U.S. ABC for 2025 projected in Framework Adjustment 66 (5,382 mt) is 33 percent less than the overfishing limit (8,034 mt) identified in the 2024 assessment.”

2. On page 18815, in table 13, the entry “GOM cod” is corrected to read as follows:

Table 13—Interim 2025 Common Pool Daily and Trip Possession Limits
Stock | Proposed 2025 common pool daily and trip possession limits: DAS permits | Proposed 2025 common pool daily and trip possession limits: Handgear A | Proposed 2025 common pool daily and trip possession limits: Handgear B | Proposed 2025 common pool daily and trip possession limits: Small vessel category
GOM Cod | 25 lb (11 kg) per DAS, up to 50 lb (23 kg) per trip | 25 lb (11 kg) per trip.

Authority: 16 U.S.C. 1801 et seq.

Dated: May 28, 2025.
Samuel D. Rauch III,
Deputy Assistant Administrator for Regulatory Programs, National Marine Fisheries Service.

[FR Doc. 2025-09934 Filed 6-2-25; 8:45 am]

BILLING CODE 3510-22-P